DEPARTMENT OF AGRICULTURE

Forest Service

Proposed New Fee Sites: The National Forests in North Carolina

AGENCY: Forest Service, USDA.

ACTION: Notice of proposed new fee sites.

SUMMARY: The National Forests in North Carolina is proposing to charge new fees at two recreation sites. All sites have recently been reconstructed or improvements are being added to enhance services and experiences. Fees are assessed based on the level of amenities and services provided, cost of operation and maintenance, market assessment, and public comment. Funds from fees would be used for the continued operation and maintenance of these recreation sites.

DATES: Send any comments about these fee proposals by September 25, 2019, comments will be compiled, analyzed and shared with the Recreation Resource Advisory Committee. New fees would begin after January 1, 2020.

ADDRESSES: Written comments concerning this notice should be addressed to ATTN: Recreation Fee Proposals, National Forests in North Carolina, 160A Zillicoa Street, Asheville, NC 28801.

FOR FURTHER INFORMATION CONTACT: Logan Free, Recreation Fee Coordinator, 828-257-4256, NFsNCfeeproposals@fs.fed.us. Information about proposed fee changes can also be found on the National Forests in North Carolina website: https://fs.usda.gov/goto/nfsnc/recfeeproposal.

SUPPLEMENTARY INFORMATION: The Federal Recreation Lands Enhancement Act (Title VII, Pub. L. 108-447) directed the Secretary of Agriculture to publish a six month advance notice in the Federal Register whenever new recreation fee areas are established. Sites that are proposed for new fees include: Kings Mountain Point proposed at $5 per vehicle or $30 for an annual pass, and Yates Place Camp proposed at $10 per site on the Uwharrie National Forest. Proposed fees at these recreation sites will be invested in site improvements that address sanitation and visitor safety, improve visitor comfort and convenience, reduce deferred maintenance, and enhance the overall recreation experiences of the public. These new fees are part of a larger fee proposal available for review at https://fs.usda.gov/goto/nfsnc/recfeeproposal.

Once public involvement is complete, these new fees will be reviewed by the Southern Region Recreation Resource Advisory Committee prior to a final decision and implementation.

Dated: August 1, 2019.
Richard A. Cooksey,
Acting Associate Deputy Chief, National Forest System.

[FR Doc. 2019-18198 Filed 8-22-19; 8:45 am]

BILLING CODE 3411-15-P